DEPARTMENT OF COMMERCE

National Oceanic and Atmospheric Administration

RIN 0648-XU02

Endangered and Threatened Species; Draft Recovery Plan for the Cook Inlet Beluga Whale

AGENCY: National Marine Fisheries Service, National Oceanic and Atmospheric Administration, Commerce.

ACTION: Notice of availability; request for comments.

SUMMARY: The National Marine Fisheries Service (NMFS) announces the availability of the Cook Inlet Beluga Whale (Delphinapterus leucas) Draft Recovery Plan for public review. NMFS is soliciting review and comment from the public and all interested parties on the draft Plan, and will consider all substantive comments received during the review period before submitting the Plan for final approval.

DATES: Comments on the draft Plan must be received by close of business on July 14, 2015.

ADDRESSES: You may submit comments on this document, identified by NOAA-NMFS-2015-0053 by either of the following methods:

• Electronic Submissions: Submit all electronic public comments via the Federal e-Rulemaking Portal.

1. Go to www.regulations.gov/#!docketDetail;D=NOAA-NMFS-2015-0053,

2. Click the “Comment Now!” icon and complete the required fields,

3. Enter or attach your comments.

• Mail: Submit written comments to Jon Kurland, Assistant Regional Administrator for Protected Resources, National Marine Fisheries Service, Alaska Regional Office, Protected Resources Division, P.O. Box 21668, 709 W. 9th St., Rm. 420, Juneau, Alaska 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive or protected information submitted voluntarily by the sender will be publicly accessible. NMFS will accept anonymous comments (enter “N/A” in the required fields if you wish to remain anonymous).

FOR FURTHER INFORMATION CONTACT: Mandy Migura (907-271-1332), email Mandy.Migura@noaa.gov or Therese Conant (301-427-8456), email Therese.Conant@noaa.gov.

SUPPLEMENTARY INFORMATION:

Background

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

NMFS began conducting comprehensive and systematic aerial surveys of the Cook Inlet beluga whale population in 1993. These surveys documented a decline in abundance from 653 whales in 1994 to 347 whales in 1998, a decline of nearly 50 percent. This rapid decline was associated with a substantial, unregulated subsistence hunt. Subsequent cooperative efforts between NMFS and Alaska Native subsistence users dramatically reduced subsistence hunts beginning in 1999. If subsistence harvest was the only factor limiting population growth, this reduction in hunting should have allowed the Cook Inlet beluga whale population to begin recovering at a rate of 2 to 6 percent per year; however, survey data indicated that the population was not recovering upon removal of hunting pressure. This lack of population growth led NMFS to reevaluate the status of Cook Inlet beluga whales. In October 2008, NMFS listed the Cook Inlet beluga whale distinct population segment (DPS) as endangered under the ESA (73 FR 62919, October 22, 2008). The most recent (2014) abundance survey indicates a population of 340 Cook Inlet beluga whales that has declined 0.4 percent per year over the past ten years.

The Cook Inlet belugas are the most reproductively and demographically isolated of all the Alaskan belugas, and are unique in Alaska because their habitat, a semi-enclosed tidal estuary in southcentral Alaska, is in close proximity to most of Alaska's human population. The distribution of Cook Inlet belugas has changed significantly since the 1970s; in recent years the summer range has contracted to the upper reaches of Cook Inlet near Anchorage. This range contraction was coincident with the decline in population size.

Ten potential threat types are identified and assessed in this draft recovery plan, based on current knowledge of threat factors. Assessments were made based on the information and data gaps presented in the plan's background section. Climate change, while considered a potential threat to Cook Inlet beluga recovery, is not addressed as a separate threat, but rather is discussed with respect to how it may affect each of the listed threats. The ten identified threats were ranked in order of their relative concern (high, medium, low) to the Cook Inlet beluga population.

Due to an incomplete understanding of the threats facing Cook Inlet beluga whales, NMFS is unable to identify with certainty the actions that will most immediately encourage recovery. Until we know which threats are limiting recovery, the strategy of this recovery plan is to focus on threats identified as medium or high concern. This should focus efforts and resources on actions that are more likely to benefit Cook Inlet beluga whale recovery.

Under section 4(f)(1) of the ESA, recovery plans must contain objective, measurable criteria which, when met, would result in a determination that the species be delisted. This recovery plan contains both demographic and threats-based criteria for down- and delisting. The threat-based recovery criteria are designed to evaluate the five ESA section 4(a)(1) factors described in the ESA listing determination of the Cook Inlet belugas. The draft recovery plan proposes that Cook Inlet beluga whales may be reclassified from endangered to threatened (i.e., downlisted) when all of the following have been met: (1) The abundance estimate for the Cook Inlet beluga whale DPS is greater than or equal to 520 individuals and there is 95 percent or greater probability that the 25-year population abundance trend (representative of one full generation) is positive; and (2) the 15 downlisting threats-based criteria are satisfied. The draft recovery plan proposes that the population will be considered for delisting when all of the following are met: (1) The abundance estimate for the Cook Inlet beluga whale DPS is greater than or equal to 780 individuals and there is 95 percent or greater probability that the 25-year population abundance trend (representative of one full generation) is positive; and (2) the 15 downlisting and 6 delisting threats-based criteria are satisfied.

When determining recovery actions, we aimed to improve understanding of whether a particular threat is limiting recovery and to eliminate or mitigate that threat, or to improve our understanding of, and ability to manage, that threat. The actions in this recovery plan include research, management, monitoring, and outreach efforts, since a comprehensive approach to Cook Inlet beluga whale recovery is likely to have greater success than focusing on any one type of action. There are also actions targeted at incorporating new information and conducting regular reassessments, making this recovery plan an adaptive management plan.

The total time and cost to recovery are very difficult to predict with the current information, and the total cost to recovery will be largely dependent upon the number of recovery actions requiring implementation. Since that cannot be determined prior to implementation of portions of this plan, the total cost presented assumes implementation of all recovery actions. As recovery progresses and we better understand the relationship between discrete threats and population dynamics, it may become apparent that there are some threats that need not be addressed to achieve recovery. However, we expect that recovery may take at least two generations (50 years).

If every identified recovery action is implemented, and if recovery implementation lasts for 50 years (two generations), then the estimated cost of implementing this entire recovery program would be approximately $78.3 million. Any projections of total costs over the full recovery period are likely to be imprecise, and the cost estimates do not imply that funding will necessarily be available for all Cook Inlet beluga whale recovery tasks.

NMFS requests and will consider all substantive comments and information presented during the public comment period as we finalize this Plan. NMFS concludes that the Draft Recovery Plan meets the requirements of the ESA.

Authority: 16 U.S.C. 1531 et seq.

Dated: May 11, 2015.
Angela Somma,
Chief, Endangered Species Conservation Division, Office of Protected Resources, National Marine Fisheries Service.

[FR Doc. 2015-11700 Filed 5-14-15; 8:45 am]

BILLING CODE 3510-22-P